DEPARTMENT OF THE INTERIOR

Fish and Wildlife Service

Final Comprehensive Conservation Plan for Souris River Basin National Wildlife Refuges, North Dakota

AGENCY: Fish and Wildlife Service, Interior.

ACTION: Notice of availability.

SUMMARY: The U.S. Fish and Wildlife Service (Service) announces that the final Comprehensive Conservation Plan (CCP) and Environmental Assessment (EA) for the Souris River basin national wildlife refuges (Refuges) is available. This final CCP/EA describes how the Service intends to manage the refuges for the next 15 years.

ADDRESSES: Please provide written comments to Toni Griffin, Planning Team Leader, Division of Refuge Planning, P.O. Box 25486, Denver Federal Center, Denver, Colorado 80225, or electronically to toni_griffin@fws.gov. A copy of the CCP may be obtained by writing to U.S. Fish and Wildlife Service, Division of Refuge Planning, 134 Union Boulevard, Suite 300, Lakewood, Colorado 80228; or by download from <http://mountain-prairie.fws.gov/planning>.

FOR FURTHER INFORMATION CONTACT: Toni Griffin, 303-236-4378 (phone); 303-236-4792 (fax); or toni_griffin@fws.gov (e-mail).

SUPPLEMENTARY INFORMATION: The Souris River Basin is home to three national wildlife refuges, known collectively as the “Souris River basin refuges:”

• Des Lacs National Wildlife Refuge, along 28 miles of the Des Lacs River.

• J. Clark Salyer National Wildlife Refuge, along 50 miles of the Souris River.

• Upper Souris National Wildlife Refuge, along 35 miles of the upper Souris River.

The Souris River basin refuges were established by executive order in 1935; the purpose of each refuge is for a “refuge and breeding ground for migratory birds and other wildlife.”

The Souris River basin refuges are located in a critical area of the Central Flyway, providing nesting and breeding habitat for migrating and nesting waterfowl. The J. Clark Salyer National Wildlife Refuge, in particular, has developed into one of the most important duck production areas in the United States.

The American Bird Conservancy recognizes all three refuges as “Globally Important Bird Areas.” In addition, J. Clark Salyer National Wildlife Refuge is designated as a regional shorebird site in the “Western Hemisphere Shorebird Reserve Network.” Lake Darling at Upper Souris National Wildlife Refuge is designated critical habitat for the federally threatened piping plover.

Representing a comprehensive collection of all North Dakota plant communities, these refuges could contain the only remaining representatives of drift plain prairie, considered a threatened resource.

The draft CCP/EA was made available to the public for a 30-day review and comment period following the announcement in the Federal Register on February 2, 2007 (72 FR 5080-5081). The draft CCP/EA identified and evaluated four alternatives for managing the refuges for the next 15 years.

Alternative A, the No Action alternative, reflects the current management of the Souris River basin refuges. It provides the baseline against which to compare the other alternatives. Refuge habitats would continue to be managed on an opportunistic schedule that may maintain—or most likely would result in further decline in—the diversity of vegetation and wildlife species. Des Lacs National Wildlife Refuge and J. Clark Salyer National Wildlife Refuge would continue to perform only limited research and would monitor only long-term vegetation change. Upper Souris National Wildlife Refuge would continue to perform no scientific research or monitoring. Outreach, partnerships, and priority public uses (fishing, hunting, wildlife observation, wildlife photography, environmental education, and interpretation) would continue at present levels.

Alternative B is the Service's proposed action and basis for the CCP. This alternative will prioritize habitats with high probability of restoration for management. Other habitats may only be partially restored or minimally managed. Research and monitoring will increase and scientific knowledge required to restore upland and wetland plant and animal communities will be shared (with the public and other resource managers). Some visitor services are expected to decrease as some staff and funding shifts to habitat restoration. Environmental education will increase.

In Alternative C, waterfowl habitat management and waterfowl production would be emphasized over other refuge programs. Research and monitoring would focus on actions that enhance waterfowl habitat, increase waterfowl nest densities, and increase nest and brood survival. Visitor service programs that use or enhance waterfowl-related activities such as hunting, wildlife viewing, or environmental education would be emphasized over other activities.

Management under Alternative D would restore, to the fullest extent, ecological processes, vegetation communities, and wildlife characteristic of the presettlement period. Research and monitoring efforts would focus on strategies that enhance native plant and animal communities. Public uses that are compatible with or that support restoration efforts would be emphasized. Interpretation and environmental education would be expanded, with an emphasis on natural plant and animal communities, ecological processes, and restoration.

The Service is furnishing this notice to advise other agencies and the public of the availability of the final CCP, to provide information on the desired conditions for the refuges, and to detail how the Service will implement management strategies. Based on the review and evaluation of the information contained in the EA, the Regional Director has determined that implementation of the final CCP does not constitute a major Federal action that would significantly affect the quality of the human environment within the meaning of section 102(2)(c) of the National Environmental Policy Act. Therefore, an Environmental Impact Statement will not be prepared. Future site-specific proposals discussed in the final CCP will be addressed in separate planning efforts with full public involvement.

Dated: September 12, 2007.
Gary G. Mowad,
Acting Deputy Regional Director, Denver, Colorado.

[FR Doc. E7-23867 Filed 12-7-07; 8:45 am]

BILLING CODE 4310-55-P